NATIONAL SCIENCE FOUNDATION

Sunshine Act Meeting

The National Science Board's Executive Committee (EC), pursuant to National Science Foundation regulations (45 CFR part 614), the National Science Foundation Act, as amended (42 U.S.C. 1862n-5), and the Government in the Sunshine Act (5 U.S.C. 552b), hereby gives notice of the scheduling of a teleconference for the transaction of National Science Board business, as follows:

TIME AND DATE: Monday, January 25, 2021 from 1:00-2:00 p.m. EST.

PLACE: This meeting will be held by teleconference through the National Science Foundation, 2415 Eisenhower Avenue, Alexandria, VA 22314.

STATUS: Open.

MATTERS TO BE CONSIDERED: Committee Chair's opening remarks; approval of Executive Committee minutes of November 12, 2020; and discuss issues and topics for an agenda of the NSB meeting scheduled for February 23-24, 2021.

CONTACT PERSON FOR MORE INFORMATION: Point of contact for this meeting is: Brad Gutierrez, 2415 Eisenhower Avenue, Alexandria, VA 22314. Telephone: 703/292-7000. To listen to this teleconference, members of the public must send an email to nationalsciencebrd@nsf.gov at least 24 hours prior to the teleconference. The National Science Board Office will send requesters a toll-free dial-in number. Meeting information and updates may be found at http://www.nsf.gov/nsb/notices/.jsp#sunshine. Please refer to the National Science Board website at www.nsf.gov/nsb for general information.

Chris Blair,
Executive Assistant to the National Science Board Office.

[FR Doc. 2021-01412 Filed 1-15-21; 4:15 pm]

BILLING CODE 7555-01-P